DEPARTMENT OF COMMERCE

Economic Development Administration

[Docket No. 001103311-0311-01]

RIN 0610-ZA17

Economic Adjustment Assistance-Availability of Funds for Hurricane Floyd and Other Disasters

Correction

In notice document 00-29958 beginning on page 70640 in the issue of Friday, November 24, 2000, make the following correction:

On page 70640, in the first column, in the DATES paragraph, in the sixth line, “May 21, 2001” should read “March 26, 2001”.

[FR Doc. C0-29958 Filed 11-29-00; 8:45 am]

BILLING CODE 1505-01-D

FEDERAL TRADE COMMISSION

16 CFR Parts 1 and 311

Federal Civil Penalities Inflation Adjustment Act of 1990, as Amended by the Debt Collection Improvement Act of 1996

Correction

In rule document 00-29469 beginning on page 69665 in the issue of Monday, November 20, 2000, make the following correction:

1. On page 69666, in the first column, in the sixth line, “increased ” should read “increases”.

2. On the same page, in the first column, in footnote 1, in the seventh line, “if” should read “is”.

§311.6 [Corrected]

3. On the same page, in the second column, in the third line from the bottom, “§311.6 3” should read “§311.6”.

[FR Doc. C0-29469 Filed 11-29-00; 8:45 am]

BILLING CODE 1505-01-D